SMALL BUSINESS ADMINISTRATION

[Declaration of Disaster #3448]

State of Texas; [Amendment #3]

In accordance with a notice received from the Federal Emergency Management Agency, dated October 15, 2002, the above numbered declaration is hereby amended to include Webb County in the State of Texas as a disaster area due to damages caused by Tropical Storm Fay beginning on September 6, 2002, and continuing through September 30, 2002.

In addition, applications for economic injury loans from small businesses located in Jim Hogg, Maverick and Zapata Counties may be filed until the specified date at the previously designated location. All other counties contiguous to the above named primary county have been previously declared.

All other information remains the same, i.e., the deadline for filing applications for physical damage is November 25, 2002, and for economic injury the deadline is June 26, 2003.

(Catalog of Federal Domestic Assistance Program Nos. 59002 and 59008).
Dated: October 18, 2002.
Herbert L. Mitchell,
Associate Administrator for Disaster Assistance.

[FR Doc. 02-27121 Filed 10-23-02; 8:45 am]

BILLING CODE 8025-01-P